DEPARTMENT OF TRANSPORTATION

Federal Aviation Administration

14 CFR Part 71

[Docket No. FAA-2024-2511; Airspace Docket No. 24-ASW-21]

RIN 2120-AA66

Amendment of Class E Airspace; Austin, TX; Establishment of Class E Airspace; Austin, Lago Vista, and Lakeway, TX

AGENCY: Federal Aviation Administration (FAA), DOT.

ACTION: Final rule; correction.

SUMMARY: This action corrects a typographical error in the final rule published in the Federal Register on February 24, 2025, amending the Class E airspace at Austin, TX, and establishing Class E airspace at Austin, Lago Vista, and Lakeway, TX.

DATES: Effective 0901 UTC, June 12, 2025. The Director of the Federal Register approves this incorporation by reference action under 1 CFR part 51, subject to the annual revision of FAA Order JO 7400.11 and publication of conforming amendments.

ADDRESSES: FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The FAA published a final rule in the Federal Register (90 FR 10454; February 24, 2025), amending the Class E airspace at Austin, TX, and establishing Class E airspace at Austin, Lago Vista, and Lakeway, TX. Subsequent to publication, the FAA identified that the final rule was published with a typographical error in the geographic coordinates for the Austin-Bergstrom INTL: RWY 18R-LOC in the E3 airspace legal description for Austin, TX. This action corrects the geographic coordinates for the Austin-Bergstrom INTL: RWY 18R-LOC from “(Lat. 30°11′36″ N, long. 97°40′42″ W)” to “(Lat. 30°10′36″ N, long. 97°40′42″ W)”.

Correction to Final Rule

Accordingly, pursuant to the authority delegated to me, Amendment of Class E Airspace; Austin, TX; Establishment of Class E Airspace; Austin, Lago Vista, and Lakeway, TX, published in the Federal Register on February 24, 2025 (90 FR 10454), is corrected as follows:

§ 71.1 [Corrected]

On page 10455, in column 3, under the heading “ASW AR E3 Austin, TX [Establish]”, revise “(Lat. 30°11′36″ N, long. 97°40′42″ W)” to read:

“(Lat. 30°10′36″ N, long. 97°40′42″ W)”

Issued in Fort Worth, Texas.
Steven T. Phillips,
Acting Manager, Operations Support Group, ATO Central Service Center.

[FR Doc. 2025-03848 Filed 3-10-25; 8:45 am]

BILLING CODE 4910-13-P